DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 1, 2000.

Interested persons are invited to submit written comments regarding the subject matter of the investigations to the Director, Division of Trade Adjustment Assistance, at the address shown below, not later than June 1, 2000.

The petitions filed in this case are available for inspection at the Office of the Director, Division of Trade Adjustment Assistance, Employment and Training Administration, U.S. Department of Labor, 200 Constitution Avenue, NW., Washington, DC 20210.

Signed at Washington, DC this 1st day of May, 2000.
Grant D. Beale,
Program Manager, Division of Trade Adjustment Assistance.

Appendix
[Petitions instituted on 05/01/2000]
TA-W | Subject firm (petitioners) | Location | Date of petition | Product(s)
37,624 | PMC Specialties Group (PACE) | Fords, NJ | 03/28/2000 | Butalated Hydroxy Teraline.
37,625 | Thatcher Summit, Inc. (Comp) | Rexburg, ID | 04/19/2000 | Backpacks.
37,626 | Thomson Consumer Elec. (IBEW) | Indianapolis, IN | 04/10/2000 | Printed Circuit Boards.
37,627 | Bari Manufacturing Co. (UNITE) | Passaic, NJ | 04/10/2000 | Ladies' Jackets and Tops.
37,628 | Hutchinson Technology (Wrks) | Sioux Falls, SD | 03/30/2000 | Thin Film Suspensions.
37,629 | Raychem/Tyco Electronics (Comp) | Fuquay-Varina, NC | 04/17/2000 | Aerial Closures for Cable.
37,630 | Motor Coils Manufacturing (IUE) | Braddock, PA | 04/17/2000 | Traction Motors for Locomotives.
37,631 | Celestica Corp. (Comp) | Campton, KY | 04/17/2000 | Printed Circuit Boards.
37,632 | Clark Material Handling (Comp) | Lexington, KY | 04/22/2000 | Forklifts.
37,633 | Holmes Group/Rival Div. (Wrks) | Warrensburg, MO | 04/17/2000 | Heater Parts, Industrial Fans.
37,634 | Marathon Oil Co. (Comp) | Lafayette, LA | 04/20/2000 | Crude Oil, Natural Gas Condensates.
37,635 | MSX International (Wrks) | El Paso, TX | 04/18/2000 | Plastic Products.
37,636 | Voyager Emblem Co. (USWA) | Sanborn, NY | 04/19/2000 | Emblems.
37,637 | Fort James Operating Co. (Comp) | Clatskanie, OR | 03/28/2000 | Groundwood Specialty Papers.
37,638 | Wildon Industries (Wrks) | Mt. Bethel, PA | 04/19/2000 | Solid Surfacing Materials.

[FR Doc. 00-12773 Filed 5-19-00; 8:45 am]

BILLING CODE 4510-30-M